DEPARTMENT OF COMMERCE

[I.D. 011001C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Licensing of Private Land Remote-Sensing Space Systems.

Form Number(s): None.

OMB Approval Number: 0648-0174.

Type of Request: Regular submission.

Burden Hours: 314.

Number of Respondents: 13.

Average Hours Per Response: 40 hours for a license application, 10 hours for a license amendments, 2 hours for a notification of a foreign agreement, 1 hour for an executive summary, 2 hours for a notification of the demise of a systems or of a decision to discontinue operations, 2 hours for a notification of any operational deviation, 5 hours for a submission of a data collection restriction plan, 3 hours for submission of an operational plan for restricting collection or dissemination of information of Israeli territory, 3 hours for submission of a data flow diagram, 1 hour for submission of satellite sub-system drawings, 3 hours for submission of final imaging system specifications, 2 hours for submission of spacecraft operational information, 2 hours for notification of a disposition/orbital debris change, 2 hours for notification of planned purges of information, 3 hours for an operational quarterly report, 8 hours for an annual compliance audit, and 10 hours for an annual operational audit.

Needs and Uses: NOAA has established requirements for the licensing of private operators of remote-sensing space systems. The information in applications and subsequent reports is needed to ensure compliance with the Land remote-Sensing Policy Act of 1992 and with the national security and international obligations of the United States.

Affected Public: Business and other for-profit organizations.

Frequency: On occasion, quarterly, annually.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 9, 2001.
Gwellnar Banks,
Management Analyst, Office of the Chief Information Officer.

[FR Doc. 01-1372 Filed 1-16-01; 8:45am]

BILLING CODE 3510-HR-S